ENVIRONMENTAL PROTECTION AGENCY

[EPA-HQ-OPPT-2003-0004; FRL-8087-7]

Access to Confidential Business Information by the National Institute for Occupational Safety and Health

AGENCY: Environmental Protection Agency (EPA).

ACTION: Notice.

SUMMARY: EPA has authorized the National Institute for Occupational Safety and Health (NIOSH) access to information which has been submitted to EPA under all sections of the Toxic Substances Control Act (TSCA). Some of the information may be claimed or determined to be Confidential Business Information (CBI).

DATES: Access to the confidential data will occur no sooner than August 25, 2006.

FOR FURTHER INFORMATION CONTACT: For general information contact: Colby Lintner, Regulatory Coordinator, Environmental Assistance Division (7408M), Office of Pollution Prevention and Toxics, Environmental Protection Agency, 1200 Pennsylvania Ave., NW., Washington, DC 20460; telephone number: (202) 554-1404; e-mail address: TSCA-Hotline@.epa.gov.

For technical information contact: Scott M. Sherlock, TSCA Security Staff, Environmental Assistance Division (7408M), Office of Pollution Prevention and Toxics, Environmental Protection Agency, 1200 Pennsylvania Ave., NW., Washington, DC 20460; telephone number: (202) 564-8257; e-mail address: sherlock.scott@epa.gov.

SUPPLEMENTARY INFORMATION:

I. General Information

A. Does this Notice Apply to Me?

This action is directed to the public in general. This action may, however, be of interest to those persons who are or may be subject to TSCA reporting requirements. Since other entities may also be interested, the Agency has not attempted to describe all the specific entities that may be affected by this action. If you have any questions regarding the applicability of this action to a particular entity, consult the person listed under FOR FURTHER INFORMATION CONTACT.

B. How Can I Get Copies of this Document and Other Related Documents?

1. Docket. EPA has established an official public docket for this action under docket identification (ID) number EPA-HQ-OPPT-2003-0004. The official public docket consists of the documents specifically referenced in this action, any public comments received, and other information related to this action. Although a part of the official docket, the public docket does not include CBI or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744, and the telephone number for the OPPT Docket, which is located in EPA the Docket Center, is (202) 566-0280.

2. Electronic access. You may access this Federal Register document electronically through the EPA Internet under the “Federal Register” listings at http://www.epa.gov/fedrgstr/.

II. What Action is the Agency Taking?

NIOSH needs access to TSCA information, including CBI, in order to meet its obligations to conduct special research, experiments, and demonstrations relating to occupational safety and health as are necessary to explore new problems, including those created by new technology in occupational safety and health. Specifically, in response to its authorities and stakeholder requests, NIOSH is pursuing a nanotechnology research program including a strategic mix of laboratory studies, field studies, and support for extramural studies. To assist in these activities, NIOSH is seeking information on nano-substances and other materials in the possession of EPA.

EPA is issuing this notice to inform all submitters of information under all sections of TSCA that the Agency will be providing NIOSH access to these CBI materials on a need-to-know basis only. All access to TSCA CBI under this arrangement will take place at EPA Headquarters and the NIOSH Headquarters located at 4676 Columbia Parkway, Cincinnati, OH 45226.

Clearance for access to TSCA CBI under this arrangement may continue until August 1, 2016.

NIOSH personnel will be requried to sign non-disclosure agreements and be briefed on appropriate security procedures before they are permitted access to CBI.

List of Subjects

Environmental protection, Confidential business information.

Dated: August 7, 2006.
Brion Cook,
Director, Information Management Division, Office of Pollution Prevention and Toxics.

[FR Doc. 06-7004 Filed 8-17-06; 8:45 am]

BILLING CODE 6560-50-S